DEPARTMENT OF THE INTERIOR

Bureau of Land Management

[NM-932-1430-ET; NMNM 42909, et al.]

Public Land Order No. 7416; Revocation of Executive Orders Dated June 24, 1914, April 28, 1917, February 11, 1918, July 10, 1919, May 25, 1921, and February 7, 1930, and Partial Revocation of Executive Order Dated April 17, 1926; New Mexico

AGENCY: Bureau of Land Management, Interior.

ACTION: Correction.

SUMMARY: This order corrects Public Land Order No. 7416, 65 FR 67295-67297, published December 1, 1999, as FR Doc. 99-31202. .

On page 67297, in the first column, under T. 24 S., R. 15 W., remove sec. 5, lot 1 and SE¼NE¼, and after T. 24 S., R. 15 W., sec. 23, NE¼NW¼, add T. 24 S., R. 15 E., sec. 5, lot 1 and SE½NE¼.

Dated: January 28, 2000.
Carsten F. Goff,
Deputy State Director.

[FR Doc. 00-2699 Filed 2-4-00; 8:45 am]

BILLING CODE 4310-FB-M